NUCLEAR REGULATORY COMMISSION

Advisory Committee on Reactor Safeguards; Subcommittee Meeting on Power Uprates; Notice of Meeting

The ACRS Subcommittee on Power Uprates will hold a meeting on November 15-16, 2005, Grand Ballroom at the Quality Inn and Suites, 1380 Putney Road, Brattleboro, Vermont.

The agenda for the subject meeting shall be as follows:

Tuesday, November 15, 2005—8:30 a.m. until the conclusion of business.

Wednesday, November 16, 2005—8:30 a.m. until the conclusion of business.

The Subcommittee will review the application by Entergy Nuclear Northeast (Entergy) for an extended power uprate for the Vermont Yankee Nuclear Power Station. The Subcommittee will hear presentations by and hold discussions with representatives of the NRC staff, their contractors, Entergy and other interested persons regarding this matter. The Subcommittee will gather information, analyze relevant issues and facts, and formulate proposed positions and actions, as appropriate, for deliberation by the full Committee.

Members of the public desiring to provide oral statements and/or written comments should notify the Designated Federal Official, Mr. Ralph Caruso (Telephone: 301-415-8065) five days prior to the meeting, if possible, so that appropriate arrangements can be made. Electronic recordings will be permitted. Signs will not be permitted in the meeting room.

Further information regarding this meeting can be obtained by contacting the Designated Federal Official between 7:30 a.m. and 4:15 p.m. (ET). Persons planning to attend this meeting are urged to contact the above named individual at least two working days prior to the meeting to be advised of any potential changes to the agenda.

Dated: October 21, 2005.
Michael R. Snodderly,
Acting Branch Chief, ACRS/ACNW.

[FR Doc. E5-5961 Filed 10-26-05; 8:45 am]

BILLING CODE 7590-01-P